ENVIRONMENTAL PROTECTION AGENCY

[EPA-HQ-OW-2021-0547; FRL-5601.5-02-OW]

Effluent Guidelines Program Plan 15

AGENCY: Environmental Protection Agency (EPA).

ACTION: Notice of availability.

SUMMARY: This notice announces the availability of the U.S. Environmental Protection Agency's (EPA) Effluent Guidelines Program Plan 15 (Plan 15). The Clean Water Act (CWA) requires EPA to biennially publish a plan for new and revised effluent limitations guidelines, after public review and comment. Plan 15 provides updates on activities discussed in Preliminary Effluent Guidelines Program Plan 15 (Preliminary Plan 15) and discusses comments that were received during the public comment period. Plan 15 discusses EPA's 2021 annual review of effluent limitations guidelines and pretreatment standards, presents the agency's preliminary review of certain specific point source categories, provides an update on the analyses and tools that EPA is developing related to effluent limitations guidelines and pretreatment standards, and discusses several new and ongoing rulemaking actions.

FOR FURTHER INFORMATION CONTACT: Doruntinë Rexhepi, Engineering and Analysis Division, Office of Water, 4303T, U.S. Environmental Protection Agency, 1200 Pennsylvania Avenue NW, Washington, DC 20460; telephone number: (202) 566-2532; fax number: (202) 566-1053; email address: rexhepi.doruntine@epa.gov.

SUPPLEMENTARY INFORMATION:

I. General Information

A. Supporting Documents

Supporting documents that provide further details on the information presented in Plan 15 are also available for review.

B. How can I get copies of these documents and other related information?

Docket. The EPA has established an official public docket for these actions under Docket ID No. EPA-HQ-OW-2021-0547. Publicly available docket materials are available either electronically through www.regulations.gov or in hard copy at the EPA Docket Center, WJC West Building, Room 3334, 1301 Constitution Ave. NW, Washington, DC. The Docket Center's hours of operations are 8:30 a.m. through 4:30 p.m., Monday through Friday (except Federal Holidays). For further information on the EPA Docket Center services and the current status, see: https://www.epa.gov/dockets.

Electronic Access. You may access this Federal Register document electronically from https://www.federalregister.gov/documents/current.

Internet access. Copies of the supporting documents are available at https://www.epa.gov/eg/effluent-guidelines-plan.

II. How is this document organized?

The outline of this document follows.

A. Legal Authority.

B. Summary of Effluent Guidelines Program Plan 15.

A. Legal Authority

This notice is published under the authority of the CWA, 33 U.S.C. 1251, et seq., and in particular sections 301(d), 304(b), 304(g), 304(m), 306, 307(b) and 308 of the Act, 33 U.S.C. 1311(d), 1314(b), 1314(g), 1314(m), 1316, 1317(b), and 1318.

B. Summary of Effluent Guidelines Program Plan 15.

EPA prepared Plan 15 pursuant to CWA section 304(m). Effluent guidelines plans provide a summary of EPA's annual review of effluent limitations guidelines and pretreatment standards, consistent with CWA sections 301(d), 304(b), 304(g), 304(m), and 307(b). From these reviews, the plans identify any new or existing industrial categories EPA selected for effluent limitations guidelines or pretreatment standards rulemakings and provide a schedule for such rulemakings. Once EPA develops the schedules for a specific rulemaking, the schedule is published in EPA's Regulatory Agenda. In addition, the plans present any new or existing categories of industry selected for further review and analysis.

Plan 15 provides updates on activities discussed in Preliminary Plan 15 and a summary of the comments that EPA received from the public. EPA received 32 unique letters on Preliminary Plan 15 that generally provided suggestions for improving certain analyses as well as comments for EPA to consider as it continues work on the detailed studies and ongoing rulemakings discussed in the Preliminary Plan. EPA considered public comments and made appropriate revisions. EPA did not change course on any substantive areas of ELG work as a result.

Plan 15 provides updates on EPA's reviews of industrial wastewater discharges and treatment technologies discussed in Preliminary Plan 15 and presents EPA's 2021 annual review of effluent guidelines and pretreatment standards. With this Plan, EPA continued to focus on and evaluate the extent and nature of Per- and Polyfluoroalkyl Substances (PFAS) discharges and assess opportunities for limiting those discharges from multiple industrial categories, as outlined in EPA's 2021 PFAS Strategic Roadmap, found here: https://www.epa.gov/pfas/pfas-strategic-roadmap-epas-commitments-action-2021-2024.

Plan 15 announces that EPA, pending resource availability, intends to initiate one new rulemaking and several new studies. After collecting and analyzing data, EPA has determined that revisions to the effluent limitations guidelines and pretreatment standards for the Landfills Category (40 CFR part 445) are warranted, considering PFAS found in landfill leachate. Plan 15 also announces EPA's intent to expand the detailed study of the Textile Mills Category (40 CFR part 410) to gather information on the use, treatment, and discharge of PFAS from the industry. Plan 15 also announces EPA's intent to initiate a Publicly Owned Treatment Works (POTW) Influent Study focusing on collecting nationwide data pertaining to industrial discharges of PFAS to POTWs, including categories recently reviewed. Finally, Plan 15 announces EPA's intent to undertake a detailed study of the Concentrated Animal Feeding Operations (CAFO) Category (40 CFR part 412), which will focus on collecting further information to enable the agency to make an informed, reasoned decision whether to undertake rulemaking to revise the ELGs for CAFOs.

Plan 15 also announces that EPA is not pursuing further regulatory action for the Electrical and Electronic Components (E&EC) Category (40 CFR part 469) at this time but will continue monitoring this category for PFAS discharge data through the POTW Influent Study. Plan 15 announces that EPA will also continue to monitor PFAS applications and discharges from the Pulp, Paper, and Paperboard Category (40 CFR part 430) and airports. The agency intends to undertake the actions outlined in this Plan and summarized above. The commencement and pace of these activities depend on the agency's Fiscal Year 2023 appropriations and operating plan.

Finally, Plan 15 provides updates related to several actions that are included in EPA's Regulatory Agenda, including the Steam Electric Power Generating Category rulemaking to strengthen certain wastewater pollution discharge limitations for coal fired power plants that use steam to generate electricity; Meat and Poultry Products Category to address nutrient discharges; Organic Chemicals, Plastics & Synthetic Fibers Category to address PFAS discharges; and Metal Finishing and Electroplating Categories to address PFAS discharges.

Plan 15 can be found at https://www.epa.gov/eg/effluent-guidelines-plan.

Radhika Fox,
Assistant Administrator.

[FR Doc. 2023-01413 Filed 1-30-23; 8:45 am]

BILLING CODE 6560-50-P